DEPARTMENT OF COMMERCE

Patent and Trademark Office

[Docket No.: PTO-P-2022-0023]

Extension of the Period for Comments on Director Review, Precedential Opinion Panel Review, and Internal Circulation and Review of Patent Trial and Appeal Board Decisions

AGENCY: United States Patent and Trademark Office, Department of Commerce.

ACTION: Extension of the comment period.

SUMMARY: The United States Patent and Trademark Office (USPTO) published a request for comments in the Federal Register on July 20, 2022, seeking public comment on the processes for Director review, Precedential Opinion Panel review, and internal circulation and review of Patent Trial and Appeal Board (PTAB) decisions. The USPTO is extending the period for public comment until October 19, 2022.

DATES: Written comments must be received on or before October 19, 2022, to ensure consideration.

ADDRESSES: For reasons of Government efficiency, comments must be submitted through the Federal eRulemaking Portal at www.regulations.gov. To submit comments via the portal, enter docket number PTO-P-2022-0023 on the homepage and click “Search.” The site will provide a search results page listing all documents associated with this docket. Find a reference to this notice and click on the “Comment Now!” icon, complete the required fields, and enter or attach your comments. Attachments to electronic comments will be accepted in ADOBE® portable document format or MICROSOFT WORD® format. Because comments will be made available for public inspection, information that a respondent does not desire to be made public, such as a phone number, should not be included in the comments.

Visit the Federal eRulemaking Portal for additional instructions on providing comments via the portal. If electronic submission of comments is not feasible due to a lack of access to a computer and/or the internet, please contact the USPTO using the contact information below for special instructions.

FOR FURTHER INFORMATION CONTACT: Kalyan Deshpande, Vice Chief Administrative Patent Judge; Amanda Wieker, Acting Senior Lead Administrative Patent Judge; or Melissa Haapala, Vice Chief Administrative Patent Judge; at 571-272-9797.

SUPPLEMENTARY INFORMATION: The USPTO is extending the period for public comment on various practices and policies for the review of PTAB decisions.

In a Federal Register Notice, Request for Comments on Director Review, Precedential Opinion Panel Review, and Internal Circulation and Review of Patent Trial and Appeal Board Decisions, 87 FR 43249 (Jul. 20, 2022) (the Notice), the USPTO sought input from the public regarding the current interim Under Secretary of Commerce for Intellectual Property and Director of the USPTO (Director) review process that allows a party to request Director review of a PTAB final written decision in inter partes review or post-grant review proceedings, and also provides the Director the option to sua sponte (at the Director's discretion) initiate the review of any PTAB decisions, including institution decisions and decisions on rehearing. The USPTO also sought input on the Precedential Opinion Panel process and on the current interim process for PTAB decision circulation and internal PTAB review. In view of the importance of these topics, and given the desire to receive input from as broad a cross-section of the public as possible, the USPTO is now extending the period to address the questions raised in the Notice, or to provide any additional comments, until October 19, 2022. All other information and instructions to commenters provided in the July 20, 2022, Notice remain unchanged. Previously submitted comments do not need to be resubmitted.

Katherine K. Vidal,
Under Secretary of Commerce for Intellectual Property and Director of the United States Patent and Trademark Office.

[FR Doc. 2022-20697 Filed 9-23-22; 8:45 am]

BILLING CODE 3510-16-P